FEDERAL COMMUNICATIONS COMMISSION

Notice of Public Information Collection(s) Being Submitted for Review to the Office of Management and Budget, Comments Requested

August 25, 2008.

SUMMARY: The Federal Communications Commission, as part of its continuing effort to reduce paperwork burden invites the general public and other Federal agencies to take this opportunity to comment on the following information collection(s), as required by the Paperwork Reduction Act (PRA) of 1995, 44 U.S.C. 3501—3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 8, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B. Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0804.

Title: Universal Service—Rural Health Care Program.

Form Nos.: FCC Forms 465, 466, 466-A and 467.

Type of Review: Extension of a currently approved collection.

Respondents: Business or other for-profit, not-for-profit institutions, and state, local or tribal government.

Number of Respondents: 6,494 respondents; 59,464 responses.

Estimated Time per Response: 10-20 hours.

Frequency of Response: On occasion, monthly, quarterly, annual, and one-time reporting requirements, and third party disclosure requirement.

Obligation to Respond: Required to obtain or retain benefits. Statutory authority for this information collection is contained in 47 U.S.C. 151, 154(i), 154(j), 201-205, 214, 254, and 403.

Total Annual Burden: 67,468 hours.

Total Annual Cost: N/A.

Privacy Act Impact Assessment: N/A.

Nature and Extent of Confidentiality: There is no need for confidentiality. However, respondents may request material or information submitted to the Commission be withheld from public inspection by requesting confidential treatment of their documents under 47 CFR 0.459 of the Commission's rules.

Needs and Uses: The Commission submitted this information collection to the OMB as an emergency request and received OMB approved on January 17, 2008. The Commission is now submitting this information collection (IC) to the OMB as an extension (no change in reporting, recordkeeping and/or third party disclosure requirements) during this comment period to obtain the full three-year clearance from them. Due to a mathematical error in the emergency request, the Commission is reporting a −952 hourly adjustment to the total annual burden.

In the Telecommunications Act of 1996 (1996 Act), Congress specifically sought to provide rural health care providers with “an affordable rate for the services necessary for the provision of telemedicine and instruction relating to such services.” In 1997, the Commission implemented this statutory directive by adopting the current Rural Health Care support mechanism, which provides universal service support to ensure that rural health care providers pay no more than their urban counterparts for their telecommunications needs and Internet access in the provision of health care services. Despite the Commission's efforts to increase the utility of the Rural Health Care support mechanism, the program has yet to fully achieve the benefits intended by the statute and the Commission.

In particular, health care providers continue to lack access to the broadband facilities needed to support the types of advanced telehealth applications, like telemedicine, that are vital to bringing medical expertise and advantage of modern health technology to rural areas of the nation. In response, the Commission issued the 2007 Pilot Program Selection Order (WC Docket No. 02-60, FCC 07-198) which selected 69 participants for the universal service Rural Health Care Pilot Program (which was originally established by the Commission in September 2006). These 69 participants are eligible for up to 85 percent of the costs associated with: (1) The construction of state or regional broadband health care networks and with the advanced telecommunications and information services provided over those networks; (2) connecting to Internet 2 or National LambdaRail, which are both dedicated nationwide backbones; and (3) connecting to the public Internet. Approximately $417 million in universal service support over three years (or $139 million per funding year) will be available to participants. To minimize the burden on Pilot Program participants and to streamline the process, the Commission generally uses the same forms as the existing Rural Health Care support mechanism. For example, selected participants, in order to receive support, must submit FCC Form 465 (seeking bids), FCC Form 466 (funding request and certification), FCC Form 466-A (selection of service provider), and FCC Form 467 (notification of service initiation). Due to the unique structure of the Pilot Program, however, in the 2007 Pilot Program Selection Order, the Commission provides guidance regarding how these forms should be completed and additional information is required from selected participants, including proposed network costs worksheets, certifications, letters of agency from each participating health care provider, invoices showing actual incurred costs, and if applicable, network design studies.

The information collected provides the Commission with the necessary information to administer the existing program and the Pilot Program, determine the amount of support applicants are eligible to receive, and inform the Commission about the feasibility of revising its rules.

Federal Communications Commission.
Marlene H. Dortch,
Secretary.

[FR Doc. E8-20743 Filed 9-5-08; 8:45 am]

BILLING CODE 6712-01-P